SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before November 22, 2004.

ADDRESSES: Send all comments regarding whether these information collections are necessary for the proper performance of the function of the agency, whether the burden estimates are accurate, and if there are ways to minimize the estimated burden and enhance the quality of the collection, to Sandra Johnston, Program Analyst, Office of Financial Assistance, Small Business Administration, 409 3rd Street SW., Suite 8300, Washington, DC 20416.

FOR FURTHER INFORMATION CONTACT: Sandra Johnston, Program Analyst, (202) 205-7528 or Curtis B. Rich, Management Analyst, (202) 205-7030.

SUPPLEMENTARY INFORMATION: Title: “Lender Transcript of Account.”

Description of Respondents: Lenders requesting SBA to provide the Agency with breakdown of payments.

Form No: 1149.

Annual Responses: 5,000.

Annual Burden: 5,000.

Title: “Settlement Sheet.”

Description of Respondents: SBA Borrowers to complete loan authorization.

Form No: 1050.

Annual Responses: 39,988.

Annual Burden: 29,991.

Jacqueline White,
Chief, Administrative Information Branch.

[FR Doc. 04-21216 Filed 9-20-04; 8:45 am]

BILLING CODE 8025-01-P